BOARD OF GOVERNORS OF THE FEDERAL RESERVE SYSTEM

Sunshine Act Meeting

Agency Holding the Meeting: Board of Governors of the Federal Reserve System.

Time and Date: 10:00 a.m., Wednesday, December 12, 2001.

The business of the Board requires that this meeting be held with less than one week's advance notice to the public and no earlier announcement of the meeting was practicable.

Place: Marriner S. Eccles Federal Reserve Board Building, C Street entrance between 20th and 21st Streets, NW., Washington, DC 20551.

Status: Open.

Matters to be Considered: 1. Proposed amendments to Regulation Z (Truth in Lending) addressing concerns related to potentially abusive practices in home mortgage lending. (Proposed earlier for public comment, Docket No. R-1090)

2. Any items carried forward from a previously announced meeting.

Note: This meeting will be recorded for the benefit of those unable to attend. Cassettes will be available for listening in the Board's Freedom of Information Office, and copies may be ordered for $6 per cassette by calling (202) 452-3684 or by writing to: Freedom of Information Office, Board of Governors of the Federal Reserve System,Washington, DC 20551.

Contact Person for More Information: Michelle A. Smith, Assistant to the Board; 202-452-3204.

Supplementary Information: You may call 202-452-3206 for a recorded announcement of this meeting; or you may contact the Board's Web site at http://www.federalreserve.gov for an electronic announcement. (The Web site also includes procedural and other information about the open meeting.)

Dated: December 7, 2001.
Robert deV. Frierson,
Deputy Secretary of the Board.

[FR Doc. 01-30778 Filed 12-7-01; 4:38 pm]

BILLING CODE 6210-01-P